DEPARTMENT OF THE TREASURY

Office of Foreign Assets Control

[Case ID DPRK-17839]

Notice of OFAC Sanctions Actions

AGENCY: Office of Foreign Assets Control, Treasury.

ACTION: Notice.

SUMMARY: The Department of the Treasury's Office of Foreign Assets Control (OFAC) is updating the entries of 490 persons on OFAC's Specially Designated Nationals and Blocked Persons List (SDN List).

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On April 10, 2020 OFAC amended the North Korea Sanctions Regulations, 31 CFR part 510, to implement the Treasury-administered provisions of the North Korea Sanctions and Policy Enhancement Act of 2016, as amended by the Countering America's Adversaries Through Sanctions Act and the National Defense Authorization Act for Fiscal Year 2020. Specifically, OFAC added a new prohibition to the regulations that is applicable to persons that are owned or controlled by a U.S. financial institution and established or maintained outside of the United States. OFAC has reviewed the individuals and entities on its Specially Designated Nationals and Blocked Persons List (SDN List) for North-Korea related activities and determined that 490 of these SDN List entries should also contain the information about the new regulatory prohibition. Accordingly, OFAC has added the reference “Transactions Prohibited For Persons Owned or Controlled By U.S. Financial Institutions: North Korea Sanctions Regulations section 510.214” to the SDN List entries for the 490 persons listed below.

BILLING CODE 4810-AL-P

Dated: May 13, 2020.
Andrea Gacki,
Director, Office of Foreign Assets Control.

[FR Doc. 2020-22980 Filed 10-19-20; 8:45 am]

BILLING CODE 4810-AL-C